DEPARTMENT OF THE INTERIOR

National Park Service

[NPS-MWR-INDU-10718; PPMWMWROW2/PPMPSAS1Y.YP0000]

Notice of Availability of the Record of Decision for the Final White-Tailed Deer Management Plan/Environmental Impact Statement, Indiana Dunes National Lakeshore, Indiana

AGENCY: National Park Service, Interior.

ACTION: Notice of Availability.

SUMMARY: The National Park Service (NPS) announces the availability of the Record of Decision (ROD) for the Final White-tailed Deer Management Plan/Environmental Impact Statement (Plan/EIS), Indiana Dunes National Lakeshore (Indiana Dunes), Indiana.

ADDRESSES: Copies of the ROD are available by request by writing to Indiana Dunes National Lakeshore, 1100 North Mineral Springs Road, Porter, Indiana 46304; telephone (219) 395-1550.

Copies of the document also may be picked up in person at the Indiana Dunes Headquarters at the address above. The document may be found on the internet on the NPS PEPC Web site at http://www.parkplanning.nps.gov/indu.

FOR FURTHER INFORMATION CONTACT: Wildlife Biologist Randy Knutson, Indiana Dunes, at the address above or by telephone at (219) 395-1550.

SUPPLEMENTARY INFORMATION: The NPS has issued a ROD for the Final White-tailed Deer Management Plan/EIS for Indiana Dunes. On June 22, 2012, the Regional Director for the Midwest Region approved the ROD for the Final EIS. As soon as practicable, the NPS will begin to implement the selected alternative, Alternative D, which was the preferred alternative identified in the Final Plan/EIS.

The EIS described four alternatives for the management of deer at Indiana Dunes. Action is needed at this time to ensure that the local deer population does not become a dominant force that negatively influences ecosystem components within Indiana Dunes, such as sensitive vegetation or other wildlife. Impacts to these Indiana Dunes resources would compromise the exceptional biodiversity found within its boundaries. The Indiana Dunes staff currently implements resource management actions to protect other resources, but no specific deer management plan exists.

Under Alternative A (no action), current deer management actions (including limited fencing, limited use of repellents, and inventorying and monitoring efforts) would have continued; no new deer management actions would be taken. Alternative B would have included all actions described under Alternative A, but would have also incorporated non-lethal actions to possibly reduce deer numbers at Indiana Dunes. The additional actions would have included the construction of additional small-scale and new large-scale exclosures, more extensive use of repellents in areas where fenced exclosures would not be appropriate or feasible, and phasing in reproductive control of does when there is a federally approved fertility-control agent for application to free-ranging populations that provides multiple year (three to five years) efficacy for does. Alternative C would have included all actions described under Alternative A, but would also have incorporated a direct reduction of the deer herd size through sharpshooting and capture/euthanasia, where appropriate. Alternative D, the selected alternative, also includes all the actions described under Alternative A, but will incorporate a combination of specific lethal and non-lethal actions from Alternatives B and C. These actions will include the reduction of the deer herd through sharpshooting, in combination with capture/euthanasia and phasing in reproductive control of does (as described in alternative B) for longer-term maintenance of lower herd numbers.

Dated: July 31, 2012.
Patricia S. Trap,
Deputy Regional Director, Midwest Region.

[FR Doc. 2012-30037 Filed 12-12-12; 8:45 am]

BILLING CODE 4310-MA-P